ENVIRONMENTAL PROTECTION AGENCY

[FRL OP-OFA-149]

Environmental Impact Statements; Notice of Availability

Responsible Agency: Office of Federal Activities, General Information 202-564-5632 or https://www.epa.gov/nepa.

Weekly receipt of Environmental Impact Statements (EIS)

Filed October 21, 2024 10 a.m. EST Through October 28, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240192, Draft, GSA, MN, Environmental Impact Statement for the Grand Portage Land Port of Entry Modernization and Expansion Project Grand Portage, MN, Comment Period Ends: 12/16/2024, Contact: Michael Gonczar 312-810-2326.

EIS No. 20240193, Draft, GSA, CT, Hartford Courthouse Draft EIS, Comment Period Ends: 12/16/2024, Contact: Robert Herman 413-244-9167.

EIS No. 20240194, Final, BLM, NV, Rough Hat Clark Solar Project, Review Period Ends: 12/02/2024, Contact: Jessica Headen 702-515-5206.

EIS No. 20240195, Draft, NRC, CA, Generic Environmental Impact Statement for License Renewal of Nuclear Plants, Supplement 62, Regarding License Renewal of Diablo Canyon Nuclear Power Plant, Units 1 and 2, Draft Report, Comment Period Ends: 12/16/2024, Contact: Kim Conway 301-415-1335.

Amended Notice

EIS No. 20240173, Draft, TVA, TN, Integrated Resource Plan 2025, Comment Period Ends: 12/11/2024, Contact: Kelly Baxter 865-632-2444.

Revision to FR Notice Published 09/27/2024; Extending the Comment Period from 11/26/2024 to 12/11/2024.

Dated: October 29, 2024.
Timothy Witman,
Acting Director, NEPA Compliance Division, Office of Federal Activities.

[FR Doc. 2024-25478 Filed 10-31-24; 8:45 am]

BILLING CODE 6560-50-P